DEPARTMENT OF ENERGY

Federal Energy Regulatory Commission

[Docket No. CP00-138-000]

Northwest Natural Gas Company; Notice of Application

April 20, 2000.

Take notice that on March 27, 2000 Northwest Natural Gas Company (NW Natural), 220 N.W. Second Avenue, Portland, Oregon 97209, filed in Docket No. CP00-138-000 an application pursuant to Section 7 of the Natural Gas Act and Section 284.224 of the Commission's Regulations for the issuance of a blanket certificate of public convenience and necessity authorizing NW Natural as a Hinshaw natural gas company to provide FERC jurisdictional storage and related transportation services in interstate commerce and approval of market-based rates, all as more fully set forth in the application on file with the Commission and open to pubic inspection.

NW Natural, an Oregon corporation, states that it is an interstate gas distribution company serving retail customers via separate facilities located in the States of Oregon and Washington. NW Natural states that it is a public utility under statutes of Oregon and Washington and is subject to the jurisdiction of the Public Utility Commission of Oregon and the Washington Utilities and Transportation Commission.

NW Natural proposes to offer, pursuant to the blanket certificate, firm and interruptible storage and related transportation services, to be effective in the summer of 2000. Additionally, NW Natural requests, pursuant of Sections 284.122 and 284.123 of the Commission's regulations, approval of market-based rates. NW Natural asserts that its application includes a Market Power Analysis which demonstrates that market-based rates for NW Natural's services are fair and equitable.

Any person desiring to be heard or to make any protest with reference to said application should on or before May 11, 2000, file with the Federal Energy Regulatory Commission, 888 First Street, N.E., Washington, DC 20426, a motion to intervene or a protest in accordance with the requirements of the Commission's Rules of Practice and Procedure (18 CFR 385.214 of 385.211) and the Regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules.

Take further notice that, pursuant to the authority contained in and subject to jurisdiction conferred upon the Federal Energy Regulatory Commission by Sections 7 and 15 of the Natural Gas Act and the Commission's Rules, a hearing will be held without further notice before the Commission on its designee on this application if no motion to intervene in filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for NW Natural to appear or to be represented at the hearing.

Linwood A. Watson, Jr.,
Acting Secretary.

[FR Doc. 00-10329 Filed 4-25-00; 8:45 am]

BILLING CODE 6717-01-M